DEPARTMENT OF THE INTERIOR

Fish and Wildlife Service

Notice of Availability of the Final Recovery Plan for the Star Cactus (Astrophytum asterias)

AGENCY: Fish and Wildlife Service, Interior.

ACTION: Notice of document availability.

SUMMARY: The U.S. Fish and Wildlife Service (Service) announces the availability of the Final Recovery Plan for the star cactus (Astrophytum asterias). Star cactus has been documented on one private land site in Starr County, Texas. Additional populations may be found in the United States in Texas, and in Tamaulipas and Nuevo Leon, Mexico.

ADDRESSES: Persons wishing to receive the Final Recovery Plan can obtain a copy from the U.S. Fish and Wildlife Service, Corpus Christi Ecological Services Field Office, c/o TAMUCC, Box 338, 6300 Ocean Drive, Corpus Christi, Texas, 78412. The Final Recovery Plan will also be available through the Fish and Wildlife Region 2 Web site at: http://southwest.fws.gov.

FOR FURTHER INFORMATION CONTACT: Field Office Supervisor, Corpus Christi Ecological Services Field Office, at the above address; telephone (361) 994-9005, facsimile (361) 994-8262.

SUPPLEMENTARY INFORMATION:

Background

The star cactus (Astrophytum asterias) was listed as endangered on November 17, 1993, under authority of the Endangered Species Act of 1973, as amended. The threats facing the survival and recovery of this species include habitat destruction through conversion of native habitat to agricultural land and increasing urbanization, competition with exotic invasive species, genetic vulnerability due to low population numbers, and collecting pressures for the cactus trade. The Final Recovery Plan includes information about the species and provides objectives and actions needed to downlist the species. Recovery activities designed to achieve downlisting objectives include: Protecting known populations; searching for additional populations; performing outreach activities to educate the general public on the need for protection; building partnerships with private landowners who are interested in voluntary conservation of the species on their land; establishing additional populations through reintroduction in the known range of the plant; formalizing a conservation strategy with Mexico; and filling information gaps to guide management decisions and provide a basis for delisting criteria. The Recovery Plan will be reviewed in five years to evaluate management direction and reconsider delisting criteria.

Restoring an endangered or threatened animal or plant to the point where it is again a secure, self-sustaining member of its ecosystem is a primary goal of the Service's endangered species program. To help guide the recovery effort, the Service is working to prepare Recovery Plans for most of the listed species native to the United States. Recovery Plans describe actions considered necessary for conservation of species, establish criteria for downlisting or delisting them, and estimate time and cost for implementing the recovery measures needed.

The Endangered Species Act of 1973 (Act), as amended (16 U.S.C. 1531 et seq.) requires the development of Recovery Plans for listed species unless such a Plan would not promote the conservation of a particular species. Section 4(f) of the Act, as amended in 1988, requires that public notice and an opportunity for public review and comment be provided during Recovery Plan development. The Service will consider all information presented during a public comment period prior to approval of each new or revised Recovery Plan. The Service and other Federal agencies will also take these comments into account in the course of implementing Recovery Plans.

The Final Star Cactus Recovery Plan is cosigned by the Director of the Texas Parks and Wildlife Department.

Authority

The authority for this action is Section 4(f) of the Endangered Species Act, 16 U.S.C. 1533(f).

Dated: September 9, 2003.
Bryan Arroyo,
Acting Regional Director, Region 2.

[FR Doc. 03-27919 Filed 11-5-03; 8:45 am]

BILLING CODE 4310-55-P